DEPARTMENT OF LABOR

Employment and Training Administration

[TA-W-70,056]

Tensolite, LLC D/B/A Carlisle Interconnect Assemblies Including On-Site Leased Workers From Volt Services Group and Adecco, Vancouver, WA; Amended Certification Regarding Eligibility To Apply for Worker Adjustment Assistance

In accordance with Section 223 of the Trade Act of 1974, as amended (“Act”), 19 U.S.C. 2273, the Department of Labor issued a Certification of Eligibility to Apply for Worker Adjustment Assistance on July 14, 2009, applicable to workers of Tensolite, LLC, d/b/a Carlisle Interconnect Assemblies, including on-site leased workers from Volt Services Group, Vancouver, Washington. The workers produce radio frequency products and interconnect assemblies. The notice was published in the Federal Register on September 2, 2009 (74 FR 45476).

At the request of the State agency, the Department reviewed the certification for workers of the subject firm. The company reports that workers leased from Adecco were employed on-site at the Vancouver, Washington location of Tensolite, LLC, d/b/a Carlisle Interconnect Assemblies. The Department has determined that these workers were sufficiently under the control of Tensolite, LLC, d/b/a Carlisle Interconnect Assemblies to be considered leased workers.

Based on these findings, the Department is amending this certification to include workers leased from Adecco working on-site at the Vancouver, Washington location of Tensolite, LLC d/b/a Carlisle Interconnect Assemblies.

The amended notice applicable to TA-W-70,056 is hereby issued as follows:

All workers of Tensolite, LLC d/b/a Carlisle Interconnect Assemblies, including on-site leased workers from Volt Services Group and Adecco, Vancouver, Washington, who became totally or partially separated from employment on or after May 18, 2008, through July 14, 2011, and all workers in the group threatened with total or partial separation from employment on the date of certification through two years from the date of certification, are eligible to apply for adjustment assistance under Chapter 2 of Title II of the Trade Act of 1974, as amended.

Signed at Washington, DC, this 20th day of June 2011.
Michael W. Jaffe,
Certifying Officer, Office of Trade Adjustment Assistance.

[FR Doc. 2011-16734 Filed 7-1-11; 8:45 am]

BILLING CODE 4510-FN-P